COMMITTEE FOR THE IMPLEMENTATION OF TEXTILE AGREEMENTS

Request for Public Comments on Potential Bilateral Textile Negotiations During 2001

March 14, 2001.

AGENCY: Committee for the Implementation of Textile Agreements (CITA).

ACTION: Announcement.

FOR FURTHER INFORMATION CONTACT: Roy Unger, International Trade Specialist, Office of Textiles and Apparel, U.S. Department of Commerce, (202) 482-4212. For information on categories for which consultations have been requested, refer to the Office of Textiles and Apparel website at http://otexa.ita.doc.gov.

SUPPLEMENTARY INFORMATION:

Authority: Section 204 of the Agricultural Act of 1956, as amended (7 U.S.C. 1854); Executive Order 11651 of March 3, 1972, as amended.

The U.S. Government anticipates holding negotiations during 2001 concerning expiring bilateral agreements concerning certain cotton, wool, man-made fiber, silk blend and other vegetable fiber textiles and textile products from Cambodia, China and Taiwan if they do not accede to the WTO this year. All three of these agreements expire on December 31, 2001.

Anyone wishing to comment or provide data or information regarding these agreements is invited to submit 10 copies of such comments or information to D. Michael Hutchinson, Acting Chairman, Committee for the Implementation of Textile Agreements, U.S. Department of Commerce, Washington, DC 20230; ATTN: Becky Geiger. Because the exact timing of the consultations is not yet certain, comments should be submitted promptly.

Comments or information submitted in response to this notice will be available for public inspection in the Office of Textiles and Apparel, room H3100, U.S. Department of Commerce, 14th and Constitution Avenue, NW., Washington, DC.

Further comment may be invited regarding particular comments or information received from the public which the Committee for the Implementation of Textile Agreements considers appropriate for further consideration.

The solicitation of comments is not a waiver in any respect of the exemption to the rulemaking provisions contained in 5 U.S.C. 553(a)(1) relating to matters which constitute “a foreign affairs function of the United States.”

D. Michael Hutchinson,
Acting Chairman, Committee for the Implementation of Textile Agreements.

[FR Doc. 01-6830 Filed 3-19-01; 8:45 am]

BILLING CODE 3510-DR-F